DEPARTMENT OF THE INTERIOR

Bureau of Land Management

[LLMT929000-223-L14400000.BJ0000; MO#4500162461]

Notice of Proposed Filing of Plats of Survey; South Dakota

AGENCY: Bureau of Land Management, Interior.

ACTION: Notice of proposed official filing.

SUMMARY: The plats of surveys for the lands described in this notice are scheduled to be officially filed 30 calendar days after the date of this publication in the BLM Montana State Office, Billings, Montana. The surveys, which were executed at the request of the United States Bureau of Reclamation, Rapid City Field Office, Rapid City, South Dakota and are necessary for the management of these lands.

DATES: A person or party who wishes to protest this decision must file a notice of protest in time for it to be received in the BLM Montana State Office no later than August 29, 2022.

ADDRESSES: A copy of the plats may be obtained from the Public Room at the BLM South Dakota State Office, 5001 Southgate Drive, Billings, Montana 59101, upon required payment. The plats may be viewed at this location at no cost.

FOR FURTHER INFORMATION CONTACT: Joshua Alexander, BLM Chief Cadastral Surveyor for South Dakota; telephone: (406) 896-5123; email: jalexand@blm.gov. Individuals in the United States who are deaf, deafblind, hard of hearing, or have a speech disability may dial 711 (TTY, TDD, or TeleBraille) to access telecommunications relay services for contacting Mr. Alexander. Individuals outside the United States should use the relay services offered within their country to make international calls to the point-of-contact in the United States.

SUPPLEMENTARY INFORMATION: The lands surveyed are:

Black Hills Meridian, South Dakota

T. 8 N., R. 2 E.

Sec. 2.

T. 9 N., R. 2 E.

Secs. 35 and 36.

A person or party who wishes to protest an official filing of a plat of survey identified earlier must file a written notice of protest with the BLM Chief Cadastral Surveyor for South Dakota at the address listed in the ADDRESSES section of this notice. The notice of protest must identify the plat(s) of survey that the person or party wishes to protest. The notice of protest must be received in the BLM Montana State Office no later than the date described in the DATES section of this notice; If received after regular business hours, a notice of protest will be considered filed the next business day. A written statement of reasons in support of the protest, if not filed with the notice of protest, must be filed with the BLM Chief Cadastral Surveyor for South Dakota within 30 calendar days after the notice of protest is received.

If a notice of protest of the plat(s) of survey is received prior to the scheduled date of official filing or during the 10 calendar day grace period provided in 43 CFR 4.401(a) and the delay in filing is waived, the official filing of the plat(s) of survey identified in the notice of protest will be stayed pending consideration of the protest. Upon receipt of a timely protest, and after a review of the protest, the Authorized Officer will issue a decision either dismissing or otherwise resolving the protest. A plat of survey will then be officially filed 30 days after the protest decision has been issued in accordance with 43 CFR part 4.

If a notice of protest is received after the date described in the DATES section of this notice and the 10-calendar-day grace period provided in 43 CFR 4.401(a), the notice of protest will be untimely, may not be considered, and may be dismissed.

Before including your address, phone number, email address, or other personal identifying information in a notice of protest or statement of reasons, you should be aware that the documents you submit—including your personal identifying information—may be made publicly available in their entirety at any time. While you can ask us to withhold your personal identifying information from public review, we cannot guarantee that we will be able to do so.

(Authority: 43 U.S.C. chapter 3)

Joshua F. Alexander,
Chief Cadastral Surveyor for South Dakota.

[FR Doc. 2022-16321 Filed 7-28-22; 8:45 am]

BILLING CODE 4310-DN-P